DEPARTMENT OF COMMERCE

Submission for OMB Review; Comment Request

The Department of Commerce has submitted to the Office of Management and Budget (OMB) for clearance the following proposal for collection of information under the provisions of the Paperwork Reduction Act (44 U.S.C. Chapter 35).

Agency: National Institute of Standards and Technology (NIST).

Title: Malcolm Baldrige National Quality Award Application.

Form Number(s): None.

OMB Approval Number: 0693-0006.

Type of Review: Regular submission.

Burden Hours: 7,400.

Number of Respondents: 100.

Average Hours Per Response: 74.

Needs and Uses: Public Law 100-107, the Malcolm Baldrige National Quality Improvement Act of 1987, established an annual U.S. National Quality Award. The Secretary of Commerce leads and NIST develops and manages the Award with cooperation from the private sector. The purposes of the Award are to promote quality awareness, recognize quality achievements of U.S. organizations, and to share successful quality strategies and practices. The failure to collect the information required of Award applicants would make it impossible to grant the Award and violate statutory responsibilities.

Affected Public: Business or for-profit organizations, not-for-profit institutions.

Frequency: Annually.

Respondent's Obligation: Voluntary.

OMB Desk Officer: Jacqueline Zeiher, (202) 395-4638.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Jacqueline Zeiher, OMB Desk Officer, FAX number (202) 395-5167 or JZeiher@omb.eop.gov

Dated: February 2, 2004.
Gwellnar Banks,
Management Analyst, Office of the Chief Information Officer.

[FR Doc. 04-2559 Filed 2-5-04; 8:45 am]

BILLING CODE 3510-13-P